DEPARTMENT OF TRANSPORTATION

Federal Aviation Administration

14 CFR Part 39

[Docket No. FAA-2014-0234; Directorate Identifier 2013-NM-220-AD]

RIN 2120-AA64

Airworthiness Directives; Empresa Brasileira de Aeronautica S.A. (EMBRAER) Airplanes

AGENCY: Federal Aviation Administration (FAA), DOT.

ACTION: Notice of proposed rulemaking (NPRM).

SUMMARY: We propose to adopt a new airworthiness directive (AD) for certain Empresa Brasileira de Aeronautica S.A. (EMBRAER) Model EMB-135BJ airplanes. This proposed AD was prompted by reports of failure of the bolts that connect the cockpit windshield center-post to the forward fuselage. This proposed AD would require repetitive detailed inspections to detect discrepancies on the attaching parts of the cockpit windshield center-post; checking whether the bolts are tightened, if applicable; and modifying parts, including inspecting for and repairing damage. The modification would terminate the repetitive inspections. We are proposing this AD to prevent failed bolts and failed attaching parts of the cockpit windshield center-post, which could lead to loss of structural integrity of the airplane.

DATES: We must receive comments on this proposed AD by May 30, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone +55 12 3927-5852 or +55 12 3309-0732; fax +55 12 3927-7546; email distrib@embraer.com.br; Internet http://www.flyembraer.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0234; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone (425) 227-1175; fax (425) 227-1149.

SUPPLEMENTARY INFORMATION:

Comments Invited

We invite you to send any written relevant data, views, or arguments about this proposed AD. Send your comments to an address listed under the ADDRESSES section. Include “Docket No. FAA-2014-0234; Directorate Identifier 2013-NM-220-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil, which is the aviation authority for Brazil, has issued Brazilian Airworthiness Directive 2013-10-02, dated October 23, 2013 (referred to after this as the Mandatory Continuing Airworthiness Information, or “the MCAI”), to correct an unsafe condition for the specified products. The MCAI states:

This [Brazilian] AD was prompted by reports of failure of the bolts that connect the lower eyelet fitting of the cockpit windshield center-post to the forward fuselage. We are issuing this [Brazilian] AD to detect failed bolts and correct the attaching parts of the lower eyelet fitting of the cockpit windshield center-post, which could lead to loss of structural integrity of the airplane.

Required actions include repetitive detailed inspections for discrepancies on the attaching parts of the lower eyelet fitting of the cockpit windshield center-post; a bolt check, if applicable; and modification of the attaching parts of the lower eyelet fitting of the cockpit windshield center-post, including a general visual inspection for damage of the specified lower eyelet fitting and repair of the damage. The modification would terminate the repetitive detailed inspections. You may examine the MCAI in the AD docket on the Internet at http://www.regulations.gov by searching for and locating it in Docket No. FAA-2014-0234.

Relevant Service Information

EMBRAER has issued Service Bulletin 145LEG-53-A032, Revision 1, dated September 24, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve required repairs for this proposed AD.

Clarification of Requirements

Brazilian Airworthiness Directive 2013-10-02, dated October 23, 2013, specifies that for those airplanes identified in Group 1 of EMBRAER Service Bulletin 145LEG-53-A032, Revision 01, dated September 24, 2013, that have done certain actions specified in EMBRAER Service Bulletin 145LEG-53-0021, dated June 8, 2005, and EMBRAER Service Bulletin 145LEG-53-0021, Revision 01, dated July 13, 2007, to do those actions at certain compliance times. For those actions, this AD specifies the affected airplanes as airplanes identified in Group 1 of EMBRAER Service Bulletin 145LEG-53-A032, Revision 01, dated September 24, 2013, that have done the actions specified in any revision of EMBRAER Service Bulletin 145LEG-53-0021. This difference has been coordinated with the Agência Nacional de Aviação Civil.

Costs of Compliance

We estimate that this proposed AD affects 56 airplanes of U.S. registry.

We also estimate that it would take about 35 work-hours per product to comply with the basic requirements of this proposed AD. The average labor rate is $85 per work-hour. Required parts would cost about $386 per product. Based on these figures, we estimate the cost of this proposed AD on U.S. operators to be $188,216, or $3,361 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Empresa Brasileira de Aeronautica S.A. (Embraer): Docket No. FAA-2014-0234; Directorate Identifier 2013-NM-220-AD.

(a) Comments Due Date

We must receive comments by May 30, 2014.

(b) Affected ADs

None.

(c) Applicability

This AD applies to Empresa Brasileira de Aeronautica S.A. (EMBRAER) Model EMB-135BJ airplanes, certificated in any category, as identified in EMBRAER Service Bulletin 145LEG-53-A032, Revision 01, dated September 24, 2013.

(d) Subject

Air Transport Association (ATA) of America Code 53, Fuselage.

(e) Reason

This AD was prompted by reports of failure of the bolts that connect the cockpit windshield center-post to the forward fuselage. We are issuing this AD to prevent failed bolts and failed attaching parts of the cockpit windshield center-post, which could lead to loss of structural integrity of the airplane.

(f) Compliance

Comply with this AD within the compliance times specified, unless already done.

(g) Detailed Inspection

At the applicable time specified in paragraph (g)(1) or (g)(2) of this AD, do a detailed inspection to detect discrepancies on the attaching parts of the lower eyelet fitting of the cockpit windshield center-post and, if applicable, check whether the bolts are tightened, in accordance with Part I of the Accomplishment Instructions of EMBRAER Service Bulletin 145LEG-53-A032, Revision 01, dated September 24, 2013. If any discrepancy is found or if any bolt is not tightened, do the actions specified in paragraph (h) of this AD before further flight. Repeat the detailed inspection thereafter at intervals not to exceed 50 flight cycles until the modification required by paragraph (h) of this AD is done.

(1) For airplanes identified as Group 1 in EMBRAER Service Bulletin 145LEG-53-A032, Revision 01, dated September 24, 2013, on which the actions of EMBRAER Service Bulletin 145LEG-53-0021, has been done: Do the detailed inspection within 3,000 flight cycles after accomplishment of the actions of EMBRAER Service Bulletin 145LEG-53-0021, or within 50 flight cycles after the effective date of this AD, whichever occurs later.

(2) For airplanes identified as Group 2 airplanes in EMBRAER Service Bulletin 145LEG-53-A032, Revision 01, dated September 24, 2013: Do the detailed inspection before the accumulation of 3,000 total flight cycles, or within 50 flight cycles after the effective date of this AD, whichever occurs later.

(h) Modification

Except as required by paragraph (g) of this AD, at the applicable time specified in paragraphs (h)(1) or (h)(2) of this AD, modify the attaching parts of the lower eyelet fitting of the cockpit windshield center-post, including a general visual inspection for any damage (cracks, dents, scratches) of the specified lower eyelet fitting, in accordance with Part II of the Accomplishment Instructions of EMBRAER Service Bulletin 145LEG-53-A032, Revision 01, dated September 24, 2013. If any damage is found during the general visual inspection, before further flight repair using a method approved by the Manager, International Branch, ANM-116, Transport Airplane Directorate, FAA; or The Agência Nacional de Aviação Civil (ANAC) (or its delegated agent, or the Design Approval Holder (DAH) with ANAC design organization approval). For a repair method to be approved, the repair approval must specifically refer to this AD. The modification terminates the repetitive inspections required by paragraph (g) of this AD.

(1) For airplanes identified as Group 1 in EMBRAER Service Bulletin 145LEG-53-A032, Revision 01, dated September 24, 2013, on which the actions specified in EMBRAER Service Bulletin 145LEG-53-0021, has been done: Do the modification before the accumulation of 3,000 flight cycles after doing the actions specified in EMBRAER Service Bulletin 145LEG-53-0021, or within 300 flight cycles after the effective date of this AD, whichever occurs later.

(2) For airplanes identified as Group 2 in EMBRAER Service Bulletin 145LEG-53-A032, Revision 01, dated September 24, 2013: Do the modification before the accumulation of 3,000 total flight cycles, or within 300 flight cycles after the effective date of this AD, whichever occurs later.

(i) Credit for Previous Actions

This paragraph provides credit for actions required by paragraphs (g) and (h) of this AD, if those actions were performed before the effective date of this AD using EMBRAER Service Bulletin 145LEG-53-A032, dated September 20, 2013, which is not incorporated by reference in this AD.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, Washington 98057-3356; telephone (425) 227-1175; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval). For a repair method to be approved, the repair approval must specifically refer to this AD. You are required to ensure the product is airworthy before it is returned to service.

(k) Related Information

(1) Refer to Mandatory Continuing Airworthiness Information (MCAI) Brazilian Airworthiness Directive 2013-10-02, dated October 23, 2013, for related information. This MCAI may be found in the AD docket on the Internet at http://www.regulations.gov by searching for and locating it in Docket No. FAA-2014-0234.

(2) For service information identified in this AD, contact Empresa Brasileira de Aeronautica S.A. (EMBRAER), Technical Publications Section (PC 060), Av. Brigadeiro Faria Lima, 2170—Putim—12227-901 São Jose dos Campos—SP—BRASIL; telephone +55 12 3927-5852 or +55 12 3309-0732; fax +55 12 3927-7546; email distrib@embraer.com.br; Internet http://www.flyembraer.com. You may view this service information at the FAA, Transport Airplane Directorate, 1601 Lind Avenue SW., Renton, WA. For information on the availability of this material at the FAA, call 425-227-1221.

Issued in Renton, Washington, on April 1, 2014.
Michael Kaszycki,
Acting Manager, Transport Airplane Directorate, Aircraft Certification Service.

[FR Doc. 2014-08460 Filed 4-14-14; 8:45 am]

BILLING CODE 4910-13-P